DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of ten individuals and nine entities whose property and interests in property have been unblocked pursuant to the Foreign Narcotics Kingpin Designation Act (“Kingpin Act”) (21 U.S.C. Sections 1901-1908, 8 U.S.C. Section 1182).

DATES: The unblocking and removal from the list of Specially Designated Nationals and Blocked Persons (“SDN List”) of the ten individuals and nine entities identified in this notice whose property and interests in property were blocked pursuant to the Kingpin Act, is effective on July 24, 2012.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On July 24, 2012, the Director of OFAC removed from the SDN List the ten individuals and nine entities listed below, whose property and interests in property were blocked pursuant to the Kingpin Act:

Individuals

1. ARANGO MADRIGAL, Hernan Dario, c/o CULTIVAR S.A., Fuente de Oro, Meta, Colombia; c/o INVARA S.C.S., Bogota, Colombia; c/o PANOS Y SEDAS LTDA., Bogota, Colombia; Carrera 31 No. 74A-16, Bogota, Colombia; DOB 20 Mar 1952; POB Yarumal, Antioquia, Colombia; Cedula No. 19186993 (Colombia) (individual) [SDNTK]

2. BARROSO DEGOLLADO, Javier, c/o ILC EXPORTACIONES, S. DE R.L. DE C.V., Mexico, Distrito Federal, Mexico; DOB 26 Jul 1950; POB Mexico, D.F., Mexico; citizen Mexico; nationality Mexico (individual) [SDNTK]

3. BERNAL BERNAL, Liliana, c/o COLPRETINAS LTDA., Bogota, Colombia; c/o CRIADERO EL TAMBO LTDA., Bogota, Colombia; c/o CULTIVAR S.A., Fuente de Oro, Meta, Colombia; c/o DISCO S.A., Cota, Cundinamarca, Colombia; c/o JESBEL Y CIA. S. EN C., Cota, Cundinamarca, Colombia; DOB 23 Feb 1973; Cedula No. 52056898 (Colombia) (individual) [SDNTK]

4. BERNAL BERNAL, Lina Maria, c/o T PLUS S.A.S., Cota, Cundinamarca, Colombia; DOB 01 Jul 1984; Cedula No. 52818850 (Colombia) (individual) [SDNTK]

5. BERNAL BERNAL, Luis Fernando, c/o COLPRETINAS LTDA., Bogota, Colombia; c/o CULTIVAR S.A., Fuente de Oro, Meta, Colombia; c/o DISCO S.A., Cota, Cundinamarca, Colombia; c/o JESBEL Y CIA. S. EN C., Cota, Cundinamarca, Colombia; c/o TEXTILES MODA NOVA LTDA., Bogota, Colombia; DOB 21 Jan 1971; Cedula No. 79187117 (Colombia) (individual) [SDNTK]

6. BERNAL DE BERNAL, Beatriz Eugenia (a.k.a. BERNAL BOTERO, Beatriz Eugenia), c/o CULTIVAR S.A., Fuente de Oro, Meta, Colombia; c/o DISCO S.A., Cota, Cundinamarca, Colombia; c/o JESBEL Y CIA. S. EN C., Cota, Cundinamarca, Colombia; c/o TEXTILES MODA NOVA LTDA., Bogota, Colombia; DOB 24 Sep 1948; POB La Ceja, Antioquia, Colombia; Cedula No. 41420126 (Colombia) (individual) [SDNTK]

7. BERNAL LONDONO, Jesus Antonio, c/o CRIADERO EL TAMBO LTDA., Bogota, Colombia; c/o CULTIVAR S.A., Fuente de Oro, Meta, Colombia; c/o DISCO S.A., Cota, Cundinamarca, Colombia; c/o JESBEL Y CIA. S. EN C., Cota, Cundinamarca, Colombia; Calle 56 No. 38-23 Apto. 501, Bogota, Colombia; DOB 10 Apr 1943; POB La Ceja, Antioquia, Colombia; Cedula No. 2911166 (Colombia) (individual) [SDNTK]

8. BOLANOS VITAL, Raul, c/o ILC EXPORTACIONES, S. DE R.L. DE C.V., Mexico, Distrito Federal, Mexico; DOB 26 Dec 1962; POB Mexico, D.F., Mexico; citizen Mexico; nationality Mexico (individual) [SDNTK]

9. LOMELIN MARTINEZ, Arturo, c/o ILC EXPORTACIONES, S. DE R.L. DE C.V., Mexico, Distrito Federal, Mexico; DOB 30 Jun 1947; POB Mexico, Distrito Federal, Mexico; citizen Mexico; nationality Mexico; C.U.R.P. LOMA470630HGTMRR08 (Mexico) (individual) [SDNTK]

10. VELEZ MURILLO, Uberney, c/o CULTIVAR S.A., Fuente de Oro, Meta, Colombia; c/o INVERSIONES AGROINDUSTRIALES DEL ORIENTE LTDA., Granada, Meta, Colombia; Carrera 39B No. 24-21 Casa 9, Villavicencio, Colombia; DOB 05 Sep 1962; POB Fuentedeoro, Meta, Colombia; Cedula No. 86030095 (Colombia) (individual) [SDNTK]

Entities

1. COLPRETINAS LTDA. (a.k.a. CP TEXTILES), Carrera 13 No. 17-55, Bogota, Colombia; NIT # 830034149-6 (Colombia) [SDNTK]

2. CRIADERO EL TAMBO LTDA., Carrera 13 No. 17-55, Bogota,

3. CULTIVAR S.A., Carrera 14 No. 9-04, Fuente de Oro, Meta, Colombia; NIT # 822007334-9 (Colombia) [SDNTK]

4. DISCO S.A., Km. 3.5 Autop. Medellin Via Siberia Costado Sur Terminal Terrestre de Carga Bloque 4 Bod. 32, Cota, Cundinamarca, Colombia; NIT # 860517890-9 (Colombia) [SDNTK]

5. INVARA S.C.S., Carrera 9A No. 12-61 p. 4, Bogota, Colombia; NIT # 800162357-0 (Colombia) [SDNTK]

6. JESBEL Y CIA. S. EN C., Km. 3.5 Autop. Medellin Via Siberia Costado Sur Terminal Terrestre de Carga Bloque 4 Bod. 32, Cota, Cundinamarca, Colombia; NIT # 860522569-9 (Colombia) [SDNTK]

7. PANOS Y SEDAS LTDA. (a.k.a. TELARAMA A Y S), Carrera 9 No. 12-61, Bogota, Colombia; NIT # 830070893-0 (Colombia) [SDNTK]

8. T PLUS S.A.S., Km. 3.5 Autop. Medellin Via Siberia Costado Sur Terminal, Terrestre de Carga Bloque 4 Bod. 32, Cota, Cundinamarca, Colombia; NIT # 900345355-5 (Colombia) [SDNTK]

9. TEXTILES MODA NOVA LTDA., Carrera 13 No. 17-55 piso 2, Bogota, Colombia; NIT # 830072066-5 (Colombia) [SDNTK]

Dated: July 24, 2012.
Adam J. Szubin,
Director, Office of Foreign Assets Control.

[FR Doc. 2012-18481 Filed 7-27-12; 8:45 am]

BILLING CODE 4810-AL-P